JUDICIAL CONFERENCE OF THE UNITED STATES

Meeting of the Judicial Conference Advisory Committee on Rules of Criminal Procedure

AGENCY: Judicial Conference of the United States.

ACTION: Notice of open meeting.

SUMMARY: The Advisory Committee on Rules of Criminal Procedure will hold a one-day meeting. The meeting will be open to public observation but not participation.

DATES: October 30, 2004.

TIME: 8:30 a.m. to 5 p.m.

ADDRESSES: La Fonda on the Plaza, 100 East San Francisco Street, Santa Fe, New Mexico.

FOR FURTHER INFORMATION CONTACT: John K. Rabiej, Chief, Rules Committee Support Office, Administrative Office of the United States Courts, Washington, DC 20544, telephone (202) 502-1820.

Dated: September 3, 2004.
John K. Rabiej,
Chief, Rules Committee Support Office.

[FR Doc. 04-20577 Filed 9-10-04; 8:45 am]

BILLING CODE 2210-55-M